OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between May 1, 2006 and May 31, 2006. Future notices will be published on the fourth Tuesday of each month, or as soon as possible thereafter. A consolidated listing of all authorities as of June 30 is published each year.

Schedule A

No Schedule A appointments were approved for May 2006.

Schedule B

No Schedule B appointments were approved for May 2006.

Schedule C

The following Schedule C appointments were approved during May 2006:

Section 213.3303 Executive Office of the President

Office of Management and Budget

BOGS00153 Director of Operations to the Director Office of Management and Budget. Effective May 25, 2006.

BOGS60155 Special Assistant to the Director Office of Management and Budget. Effective May 25, 2006.

Office of National Drug Control Policy

QQGS60090 Public Affairs Specialist to the Counselor to the Deputy Director. Effective May 17, 2006.

Section 213.3304 Department of State

DSGS60947 Staff Assistant (Visits) to the Supervisory Protocol Officer (Visits). Effective May 4, 2006.

DSGS61085 Senior Advisor to the Assistant Secretary, Bureau of Educational and Cultural Affairs. Effective May 4, 2006.

DSGS61086 Public Affairs Specialist to the Director, Bureau of International Narcotics and Law Enforcement. Effective May 4, 2006.

DSGS61087 Legislative Management Officer to the Assistant Secretary for Legislative and Intergovernmental Affairs. Effective May 4, 2006.

DSGS61079 Staff Assistant to the Coordinator for International Information Programs. Effective May 9, 2006.

DSGS61080 Staff Assistant to the Under Secretary for Public Diplomacy and Public Affairs. Effective May 9, 2006.

DSGS60747 Staff Assistant to the Under Secretary for Public Diplomacy and Public Affairs. Effective May 17, 2006.

DSGS61083 Public Affairs Specialist to the Assistant Secretary for Public Affairs. Effective May 18, 2006.

DSGS61091 Special Assistant to the Under Secretary for Public Diplomacy and Public Affairs. Effective May 25, 2006.

Section 213.3305 Department of the Treasury

DYGS00470 Senior Advisor to the Deputy Assistant Secretary (Public Liaison, Strategic Planning and Business Development). Effective May 12, 2006.

DYGS00471 Public and Legislative Affairs Manager to the Director Community Development Financial Institutions. Effective May 18, 2006.

DYGS60418 Special Assistant to the Executive Secretary. Effective May 18, 2006.

Section 213.3306 Department of Defense

DDGS16933 Special Assistant to the Deputy Under Secretary of Defense (Acquisition and Technology). Effective May 4, 2006.

DDGS16943 Administrative Assistant to the Director, Department of Defense Office of Legislative Counsel. Effective May 12, 2006.

DDGS16941 Special Assistant to the Principal Deputy Assistant Secretary of Defense (Legal Affairs). Effective May 15, 2006.

DDGS16944 Public Affairs Specialist to the Assistant Secretary of Defense (Public Affairs). Effective May 15, 2006.

DDGS16940 Research Assistant to the Speechwriter, Office of the Assistant Secretary of Defense (Public Affairs). Effective May 19, 2005.

DDGS16948 Special Assistant to the Principal Deputy Under Secretary of Defense (Comptroller). Effective May 30, 2006.

DDGS16951 Defense Fellow to the Special Assistant to the Secretary of Defense for White House Liaison. Effective May 30, 2006.

Section 213.3308 Department of the Navy

DNGS60075 Confidential Assistant to the Assistant Secretary of the Navy (Financial Management and Comptroller). Effective May 16, 2006.

Section 213.3309 Department of the Air Force

DFGS60046 Budget Analyst to the Assistant Secretary (Financial Management and Comptroller). Effective May 25, 2006.

Section 213.3310 Department of Justice

DJGS00291 Deputy Chief Privacy and Civil Liberties Officer and Counsel to the Deputy Attorney General. Effective May 15, 2006.

DJGS00328 Associate Director to the Director, Office of Intergovernmental and Public Liaison. Effective May 18, 2006.

DJGS00054 Counsel to the Assistant Attorney General (Legal Policy). Effective May 25, 2006.

DJGS00183 Counsel to the Deputy Attorney General. Effective May 25, 2006.

Section 213.3311 Department of Homeland Security

DMGS00512 Advance Representative to the Advance Representative, Office of the Chief of Staff. Effective May 1, 2006.

DMGS00513 Advisor to the Assistant Secretary for Grants and Training to the Executive Director,

Office of Grants and Training. Effective May 1, 2006.

DMGS00504 Special Assistant to the Assistant Secretary for Infrastructure Protection. Effective May 4, 2006.

DMGS00516 Confidential Assistant to the Executive Secretary. Effective May 4, 2006.

DMGS00514 Confidential Assistant to the Assistant Secretary, Immigration and Customs Enforcement. Effective May 5, 2006.

DMGS00520 Confidential Assistant to the White House Liaison and Advisor. Effective May 10, 2006.

DMGS00524 Press Assistant to the Assistant Secretary for Public Affairs. Effective May 10, 2006.

DMGS00526 Deputy White House Liaison to the White House Liaison and Advisor. Effective May 12, 2006.

DMGS00521 Press Assistant to the Assistant Secretary for Public Affairs. Effective May 16, 2006.

DMGS00523 Special Assistant to the Assistant Secretary, Immigration and Customs Enforcement. Effective May 16, 2006.

DMGS00525 Policy Assistant to the Deputy Director, Federal Emergency Management Agency. Effective May 16, 2006.

DMGS00527 Assistant Director for Legislative Affairs to the Assistant Secretary for Legislative Affairs. Effective May 16, 2006.

DMGS00530 Deputy Press Secretary to the Assistant Secretary for Public Affairs. Effective May 16, 2006.

DMGS00522 Assistant Press Secretary to the Assistant Secretary for Public Affairs. Effective May 18, 2006.

DMGS00528 Special Assistant to the Chief of Staff to the General Counsel and Associate General Counsel for Science and Technology. Effective May 25, 2006.

DMGS00529 Director of Legislative Affairs for Border, Transportation, and Immigration Security to the Assistant Secretary for Legislative Affairs. Effective May 25, 2006.

DMOT00519 Special Assistant to the Assistant Secretary, Transportation Security Administration. Effective May 31, 2006.

Section 213.3312 Department of the Interior

DIGS01068 Special Assistant to the Secretary for Alaska to the Senior Advisor to the Secretary for Alaskan Affairs. Effective May 18, 2006.

DIGS01067 Special Assistant—Scheduling and Advance to the Director—Scheduling and Advance. Effective May 25, 2006.

DIGS01069 Special Assistant to the Chief of Staff. Effective May 25, 2006.

DIGS01064 Hispanic Media Outreach Coordinator to the Director, Office of Communications. Effective May 30, 2006.

Section 213.3313 Department of Agriculture

DAGS00842 Special Assistant to the Deputy Assistant Secretary for Administration. Effective May 12, 2006.

Section 213.3314 Department of Commerce

DCGS00275 Confidential Assistant to the Director, Office of Business Liaison. Effective May 11, 2006.

DCGS00593 Senior Advisor to the Coordinator for International Intellectual Property Enforcement. Effective May 12, 2006.

DCGS00346 Confidential Assistant to the Director Office of White House Liaison. Effective May 25, 2006.

DCGS00452 Confidential Assistant to the Deputy Assistant Secretary for Legislative and Intergovernmental Affairs. Effective May 25, 2006.

DCGS00540 Confidential Assistant to the Chief of Staff. Effective May 31, 2006.

Section 213.3315 Department of Labor

DLGS60179 Senior Advisor to the Assistant Secretary for Employment Standards. Effective May 11, 2006.

DLGS60135 Special Assistant to the Director, 21st Century Office and Deputy Assistant Secretary for Intergovernmental Affairs. Effective May 12, 2006.

DLGS60121 Special Assistant to the Director of Operations. Effective May 25, 2006.

Section 213.3316 Department of Health and Human Services

DHGS60485 Director of Communications to the Assistant Secretary, Health. Effective May 4, 2006.

DHGS60240 Regional Director, Dallas, Texas, Region VI to the Director of Intergovernmental Affairs. Effective May 8, 2006.

DHGS60034 Senior Advisor to the Administrator, Substance Abuse and Mental Health Service. Effective May 16, 2006.

Section 213.3317 Department of Education

DBGS00522 Confidential Assistant to the Chief of Staff. Effective May 4, 2006.

DBGS00523 Director, White House Liaison to the Chief of Staff. Effective May 4, 2006.

DBGS00517 Confidential Assistant to the Assistant Secretary for Elementary and Secondary Education. Effective May 5, 2006.

DBGS00524 Special Assistant to the Chief of Staff to the Deputy Secretary. Effective May 5, 2006.

DBGS00518 Special Assistant to the Director, Regional Services. Effective May 8, 2006.

DBGS00521 Deputy Chief of Staff for Strategy to the Chief of Staff. Effective May 9, 2006.

DBGS00525 Confidential Assistant to the Executive Assistant. Effective May 10, 2006.

DBGS00531 Press Secretary to the Assistant Secretary, Office of Communications and Outreach. Effective May 10, 2006.

DBGS00527 Confidential Assistant to the Director, Scheduling and Advance Staff. Effective May 12, 2006.

DBGS00532 Special Assistant to the Director, Office of Educational Technology. Effective May 12, 2006.

DBGS00533 Special Assistant to the Director, White House Liaison. Effective May 12, 2006.

DBGS00534 Special Assistant to the Under Secretary. Effective May 12, 2006.

DBGS00528 Chief of Staff to the Assistant Deputy Secretary for Innovation and Improvement. Effective May 18, 2006.

DBGS00526 Confidential Assistant to the Executive Director. Effective May 19, 2006.

DBGS00536 Confidential Assistant to the Deputy Assistant Secretary. Effective May 19, 2006.

Section 213.3318 Environmental Protection Agency

EPGS06011 Program Specialist to the Assistant Administrator for Environmental Information. Effective May 17, 2006.

Section 213.3325 United States Tax Court

JCGS60044 Secretary (Confidential Assistant) to the Chief Judge. Effective May 1, 2006.

JCGS60063 Secretary (Confidential Assistant) to the Chief Judge. Effective May 1, 2006.

JCGS60079 Trial Clerk to the Chief Judge. Effective May 1, 2006.

Section 213.3331 Department of Energy

DEGS00520 Policy Advisor to the Deputy Assistant Secretary for Natural Gas and Petroleum Technology. Effective May 11, 2006.

DEGS00514 Special Assistant to the Assistant Secretary for Environment, Safety and Health. Effective May 16, 2006.

Section 213.3346 Selective Service System

SSGS03373 Administrative Assistant to the Director, Selective Service System. Effective May 5, 2006.

Section 213.3348 National Aeronautics and Space Administration

NNGS00171 Senior Legislative Affairs Program Specialist to the Assistant Administrator for Legislative Affairs. Effective May 17, 2006.

NNGS00172 Congressional Relations Specialist to the Assistant Administrator for Legislative Affairs. Effective May 30, 2006.

Section 213.3356 Commission on Civil Rights

CCGS60031 General Counsel to the Staff Director. Effective May 25, 2006.

Section 213.3384 Department of Housing and Urban Development

DUGS60151 Staff Assistant to the Assistant Secretary for Public Affairs. Effective May 4, 2006.

DUGS60385 Staff Assistant to the Assistant Secretary for Public Affairs. Effective May 8, 2006.

DUGS60411 Special Assistant to the General Counsel. Effective May 10, 2006.

DUGS60373 Media Outreach Specialist to the Assistant Secretary for Public Affairs. Effective May 31, 2006.

Section 213.3394 Department of Transportation

DTGS60376 Director, Office of Small and Disadvantaged Business Utilization to the Secretary. Effective May 10, 2006.

Authority: 5 U.S.C. 3301 and 3302; E.O. 10577, 3 CFR 1954-1958 Comp., p. 218.

Office of Personnel Management.
Dan G. Blair,
Deputy Director.

[FR Doc. E6-11233 Filed 7-14-06; 8:45 am]

BILLING CODE 6325-39-P